DEPARTMENT OF THE INTERIOR

National Park Service

Special Resource Study; San Gabriel Watershed and Mountains, Los Angeles and Orange Counties, CA; Notice of Extension of Public Scoping Period

SUMMARY: Pursuant to § 102(2)(C) of the National Environmental Policy Act of 1969 (P.L. 91-190 as amended), and as authorized by Pub. L. 108-042, the National Park Service, Department of the Interior, has initiated public scoping for a study of the San Gabriel River surrounding watershed and San Gabriel Mountains so as to evaluate significance of the area's resources and assess the possible suitability and feasibility of the area to be considered for inclusion in the National Park System. Originally the public scoping period was set to conclude on April 19, 2005 (per Federal Register notice dated January 19, 2005). In deference to public interest expressed to date from local governmental agencies, organizations, and other interested parties, the scoping period has been extended.

SUPPLEMENTARY INFORMATION: Interested individuals, organizations, and agencies are encouraged to provide written comments—to be considered any response must now be postmarked or transmitted no later than May 20, 2005. At this time five public meetings are scheduled to be held during March 18-24; complete details including times and locations are available at http://www.nps.gov/pwro/sangabriel.

All written responses should be addressed to the National Park Service, Attn: San Gabriel SRS, 1111 Jackson St., Ste. 700, Oakland, CA 94607 (or may be sent electronically in care of pwr_sangabriel@nps.gov). If individuals submitting comments request that their name or/and address be withheld from public disclosure, it will be honored to the extent allowable by law. Such requests must be stated prominently in the beginning of the comments. There also may be circumstances wherein the NPS will withhold a respondent's identity as allowable by law. As always NPS will make available to public inspection all submissions from organizations or businesses and from persons identifying themselves as representatives or officials of organizations and businesses, and, anonymous comments may not be considered.

Availability of the pending draft study for review and comment will be announced by local and regional news media, the above listed website, and direct mailing. At this time it is anticipated that the draft study will be released by late 2006 or early 2007 for public review and comment.

Dated: March 11, 2005.
George J. Turnbull,
Acting Regional Director, Pacific West Region.

[FR Doc. 05-7913 Filed 4-19-05; 8:45 am]

BILLING CODE 4312-52-M